DEPARTMENT OF AGRICULTURE

Animal and Plant Health Inspection Service

7 CFR Part 301

[Docket No. 00-110-3]

West Indian Fruit Fly; Removal of Quarantined Area

AGENCY: Animal and Plant Health Inspection Service, USDA.

ACTION: Interim rule and request for comments.

SUMMARY: We are amending the West Indian fruit fly regulations by removing the quarantine on a portion of Cameron County, TX, and by removing the restrictions on the interstate movement of regulated articles from that area. This action is necessary to relieve restrictions that are no longer needed to prevent the spread of the West Indian fruit fly into noninfested areas of the United States. We have determined that the West Indian fruit fly has been eradicated from this portion of Cameron County, TX, and that the quarantine and restrictions are no longer necessary. This portion of Cameron County, TX, was the only area in the continental United States quarantined for the West Indian fruit fly. Therefore, as a result of this action, there are no longer any areas in the continental United States quarantined for the West Indian fruit fly.

DATES: This interim rule was effective June 1, 2001. We invite you to comment on this docket. We will consider all comments that we receive by August 24, 2001.

ADDRESSES: Please send four copies of your comment (an original and three copies) to: Docket No. 00-110-3, Regulatory Analysis and Development, PPD, APHIS, Suite 3C03, 4700 River Road, Unit 118, Riverdale, MD 20737-1238.

Please state that your comment refers to Docket No. 00-110-3.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Robert Spaide, Assistant Director, Invasive Species and Pest Management, PPQ, APHIS, 4700 River Road Unit 134, Riverdale MD 20737-1236; (301) 734-8247.

SUPPLEMENTARY INFORMATION:

Background

The West Indian fruit fly, Anastrepha obliqua (Macquart), is a very destructive pest of fruits and vegetables, including carambola, grapefruit, guava, limes, mangoes, oranges, passion fruit, peaches, and pears. This pest can cause serious economic losses by lowering the yield and quality of these fruits and vegetables and by damaging the seedlings and young plants. Heavy infestations can result in complete loss of these crops.

The West Indian fruit fly regulations, contained in 7 CFR 301.98 through 301.98-10 (referred to below as the regulations), restrict the interstate movement of regulated articles from quarantined areas to prevent the spread of West Indian fruit fly to noninfested areas of the United States. A portion of Cameron County, TX, is the only area listed in the regulations as a quarantined area. (See 66 FR 6429-6436, Docket No. 00-110-1.)

Based on trapping surveys conducted by inspectors of Texas State and county agencies and by inspectors of the Animal and Plant Health Inspection Service, we have determined that the West Indian fruit fly has been eradicated from the quarantined portion of Cameron County, TX. The last finding of West Indian fruit fly in this area was November 28, 2001.

Since then, no evidence of West Indian fruit fly infestation has been found in this area. Based on our experience, we have determined that sufficient time has passed to conclude that the West Indian fruit fly no longer exists in Cameron County, TX. Therefore, we are removing Cameron County, TX from the list of quarantined areas in § 301.98-3(c). West Indian fruit fly infestations are not known to exist anywhere else in the continental United States.

Immediate Action

Immediate action is warranted to remove an unnecessary regulatory burden on the public. A portion of Cameron County, TX, was quarantined due to the possibility that the West Indian fruit fly could be spread from this area to noninfested areas of the United States. Since this situation no longer exists, immediate action is necessary to remove the quarantine on Cameron County, TX, and to relieve the restrictions on the interstate movement of regulated articles from that area. Under these circumstances, the Administrator has determined that prior notice and opportunity for public comment are contrary to the public interest and that there is good cause under 5 U.S.C. 553 for making this action effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

This interim rule relieves restrictions on the interstate movement of regulated articles from a portion of Cameron County, TX.

Within the previously quarantined portion of Cameron County, TX, there are approximately 22 small entities that may be affected by this rule. These include 5 fruit sellers and 17 growers. These 22 entities comprise less than 1 percent of the total number of similar entities operating in the State of Texas. Additionally, these small entities sell regulated articles primarily for local intrastate—not interstate—movement, so the effect, if any, of this rule on these entities appears to be minimal.

The effect on those few entities that do move regulated articles interstate was minimized by the availability of various treatments that, in most cases, allowed these small entities to move regulated articles interstate with very little additional cost.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293 and Sec. 203, Title II, Pub. L. 106-224, 114 Stat. 400.

2. In § 301.98-3, paragraph (c) is revised to read as follows:

§ 301.98-3 Quarantined areas.

* * * * *

(c) The areas described below are designated as quarantined areas: There are no areas in the continental United States quarantined for the West Indian fruit fly.

Done in Washington, DC, this 19th day of June 2001.
Bobby R. Acord,
Acting Administrator, Animal and Plant Health Inspection Service.

[FR Doc. 01-15865 Filed 6-22-01; 8:45 am]

BILLING CODE 3410-34-P